NATIONAL TRANSPORTATION SAFETY BOARD

Public Forum—Emerging Flight Data and Locator Technology

On Tuesday, October 7, 2014, the National Transportation Safety Board (NTSB) will convene a forum titled Emerging Flight Data and Locator Technology. The forum will begin at 8:30 a.m., and is open to all. Attendance is free, and no registration is required. NTSB Acting Chairman Christopher Hart will serve as the presiding officer of the forum, and the Board of Inquiry will consist of the Acting Chairman, the Director of the Office of Research and Engineering, Joseph M. Kolly, Ph.D., and the Director of the Office of Aviation Safety, John DeLisi.

The one-day forum will focus on highlighting effective flight data and locator technologies currently being used, exploring technologies in development, and determining what policy, industry, regulatory, and technological impediments need to be addressed. Below is the preliminary agenda:

Tuesday, October 7, 2014 (08:30 a.m.-5:00 p.m.)

1. Opening Statement by Acting Chairman Hart.

2. Opening Remarks by Joseph M. Kolly, Ph.D.

3. Presentations on: Regulatory Overview

4. Questions from the Technical Panel and Board of Inquiry

5. Presentations on: Airframe, On-Board System, and Service Provider Viewpoint

6. Questions from the Technical Panel and Board of Inquiry

7. Lunch Break

8. Presentations on: Technology Solutions

9. Questions from the Technical Panel and Board of Inquiry

10. Presentations on: Future Path

11. Questions from the Technical Panel and Board of Inquiry

12. Closing Statement by Acting Chairman Hart

The full agenda and a list of participants can be found at the following web address: http://www.ntsb.gov/news/events/2014/recorderforum/agenda.html.

The hearing docket is DCA14SS009.

The forum will be held in the NTSB Board Room and Conference Center, located at 429 L'Enfant Plaza E., SW., Washington, DC. The public can view the hearing in person or by live Web cast at www.ntsb.gov. Web cast archives are generally available by the end of the next day following the hearing, and webcasts are archived for a period of 3 months from after the date of the event.

Individuals requiring reasonable accommodation and/or wheelchair access directions should contact Ms. Rochelle Hall at (202) 314-6305 or by email at Rochelle.Hall@ntsb.gov by Tuesday, September 30, 2014.

NTSB Media Contact: Peter Knudson—peter.knudson@ntsb.gov. NTSB Forum Manager: Erin Gormley—erin.gormley@ntsb.gov

Dated: September 19, 2014.
Candi R. Bing,
Federal Register Liaison Officer.

[FR Doc. 2014-22729 Filed 9-24-14; 8:45 am]

BILLING CODE 7533-01-P